DEPARTMENT OF HOMELAND SECURITY

Federal Emergency Management Agency

44 CFR Part 67

[Docket ID FEMA-2014-0002]

Final Flood Elevation Determinations

AGENCY: Federal Emergency Management Agency, DHS.

ACTION: Final rule.

SUMMARY: Base (1-percent-annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and 90 days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Edgecombe County, North Carolina, and Incorporated Areas
Docket No.: FEMA-B-1202
Bynum Mill Creek | At the Town Creek confluence | +48 | Town of Macclesfield, Town of Pinetops, Unincorporated Areas of Edgecombe County.
| At the downstream side of North Carolina Highway 124 | +83
Bynum Mill Run | At the Bynum Mill Creek confluence | +66 | Town of Macclesfield, Unincorporated Areas of Edgecombe County.
| Approximately 0.5 mile upstream of South 4th Street Extension (State Route 1112) | +95
Cokey Swamp | At the Town Creek confluence | +54 | Unincorporated Areas of Edgecombe County.
| Approximately 1.7 miles upstream of the confluence with Town Creek | +55
Deep Creek | Approximately 1.0 mile downstream of Dickens Road (State Route 1505) | +48 | Town of Speed, Unincorporated Areas of Edgecombe County.
| At the Deep Creek Tributary confluence | +56
East Tarboro Canal | Approximately 1,500 feet upstream of the Tar River confluence | +45 | Town of Tarboro, Unincorporated Areas of Edgecombe County.
| Approximately 590 feet upstream of the railroad | +56
Fishing Creek | Approximately 500 feet upstream of the Maple Swamp confluence | +49 | Town of Leggett, Unincorporated Areas of Edgecombe County.
| Approximately 1.0 mile upstream of NC Highway 97 | +57
Leggett Canal | At the Swift Creek confluence | +58 | Town of Leggett, Unincorporated Areas of Edgecombe County.
| Approximately 0.7 mile upstream of the Swift Creek confluence | +58
Longs Branch | At the upstream side of the railroad | +54 | Town of Speed, Unincorporated Areas of Edgecombe County.
| Approximately 0.9 mile upstream of North Carolina Highway 122 | +63
Maple Swamp | At the Fishing Creek confluence | +49 | Unincorporated Areas of Edgecombe County.
| Approximately 0.6 mile downstream of Bethlehem Church Road (State Route 1431) | +59
Moccasin Swamp | At the Swift Creek confluence | +73 | Unincorporated Areas of Edgecombe County.
| Approximately 1.0 mile upstream of the Swift Creek confluence | +74
Moore Swamp | At the Maple Swamp confluence | +56 | Unincorporated Areas of Edgecombe County.
| Approximately 1.1 miles upstream of the Maple Swamp confluence | +58
Savage Mill Run | Approximately 250 feet downstream of North Carolina Highway 122 | +56 | Town of Speed, Unincorporated Areas of Edgecombe County.
| Approximately 1.2 miles upstream of North Carolina Highway 122 | +62
Swift Creek | Approximately 300 feet upstream of West Logsboro Road | +51 | Town of Leggett, Unincorporated Areas of Edgecombe County.
| Approximately 0.6 mile downstream of Seven Bridges Road (State Route 1404) | +78
Town Creek | Approximately 2.0 miles upstream of Colonial Road (State Route 1601) | +40 | Town of Pinetops, Unincorporated Areas of Edgecombe County.
| Approximately 140 feet upstream of North Carolina Highway 43 | +57
White Oak Swamp | Approximately 1,500 feet downstream of White Oak Swamp Road (State Route 1428) | +62 | Unincorporated Areas of Edgecombe County
| Approximately 1,900 feet upstream of White Oak Swamp Road (SR1428) | +65
* National Geodetic Vertical Datum.
+ North American Vertical Datum.
# Depth in feet above ground.
‸ Mean Sea Level, rounded to the nearest 0.1 meter
ADDRESSES
Town of Leggett
Maps are available for inspection at Leggett Town Hall, 63 Draughn Road, Tarboro, NC 27886.
Town of Macclesfield
Maps are available for inspection at Town Hall, 203 West Green Street, Macclesfield, NC 27852.
Town of Pinetops
Maps are available for inspection at the Town Hall, 101 East Hamlet Street, Pinetops, NC 27864.
Town of Speed
Maps are available for inspection at the Town Hall, 200 Railroad Street, Speed, NC 27881.
Town of Tarboro
Maps are available for inspection at the Town Hall, 500 Main Street, Tarboro, NC 27886.
Unincorporated Areas of Edgecombe County
Maps are available for inspection at the Edgecombe County Planning Department, 201 Saint Andrews Street, Room 205, Tarboro, NC 27886

State | City/town/county | Source of flooding | Location | * Elevation in feet (NGVD) + Elevation in feet (NAVD) # Depth in feet above ground ‸ Elevation in meters (MSL) Modified
Unincorporated Areas of Halifax County, North Carolina
Docket No.: FEMA-B-1198
North Carolina | Unincorporated Areas of Halifax County | Fishing Creek | Approximately 1.1 miles upstream of the Fishing Creek Tributary 2 confluence | +59
|  |  | Approximately 1.0 mile downstream of Grammon Road (State Route 1429) | +63
* National Geodetic Vertical Datum.
+ North American Vertical Datum.
# Depth in feet above ground.
‸ Mean Sea Level, rounded to the nearest 0.1 meter.
ADDRESSES
Unincorporated Areas of Halifax County
Maps are available for inspection at the Halifax County Planning Department, 15 West Pittsylvania Street, Halifax, NC 27839.

Dated: April 22, 2015.
Roy E. Wright,
Deputy Associate Administrator for Mitigation, Department of Homeland Security, Federal Emergency Management Agency.

[FR Doc. 2015-11584 Filed 5-13-15; 8:45 am]

BILLING CODE 9110-12-P